DEPARTMENT OF TRANSPORTATION

Federal Motor Carrier Safety Administration

[Docket No. FMCSA-2014-0005]

Qualification of Drivers; Exemption Applications; Vision

AGENCY: Federal Motor Carrier Safety Administration (FMCSA), DOT.

ACTION: Notice of applications for exemptions; request for comments.

SUMMARY: FMCSA announces receipt of applications from 26 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before June 13, 2014.

ADDRESSES: You may submit comments bearing the Federal Docket Management System (FDMS) Docket No. FMCSA-2014-0005 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on January 17, 2008 (73 FR 3316).

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 26 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Lyle R. Bell

Mr. Bell, 64, has a prosthetic right eye due to a traumatic incident in 1994. The visual acuity in his right eye is no light perception, and in his left eye, 20/20. Following an examination in 2014, his optometrist stated, “At this point, Lyle has the same vision left eye that he has been driving with for the past 10 years. He is used to seeing with monocular vision and has learned to compensate for his lack of depth perception by using other visual clues [sic]. He has sufficient vision in his left eye to perform driving tasks of a commercial vehicle, but there is no binocular vision due to only having one eye.” Mr. Bell reported that he has driven straight trucks for 48 years, accumulating 2.4 million miles, and tractor-trailer combinations for 30 years, accumulating 3 million miles. He holds a Class A CDL from Nebraska. His driving record for the last 3 years shows no crashes and one conviction for a moving violation in a CMV; he failed to yield to a traffic signal.

Tracy L. Bowers

Mr. Bowers, 51, has had a retinal detachment in his right eye since 2010. The visual acuity in his right eye is 20/80, and in his left eye, 20/16. Following an examination in 2014, his optometrist stated, “Based on these findings, I feel Tracy L. Bowers has the visual abilities to continue operating a commercial motor vehicle in interstate commerce because the visual loss in his right eye occurred more than 3 years ago and has been stable since that time.” Mr. Bowers reported that he has driven straight trucks for 5 years, accumulating 225,000 miles, and tractor-trailer combinations for 6 years, accumulating 36,000 miles. He holds a Class A CDL from Iowa. His driving record for the last 3 years shows no crashes and no convictions for moving violations in a CMV.

Bradley E. Buzzell

Mr. Buzzell, 51, has had amblyopia in his left eye since 1993. The visual acuity in his right eye is 20/20, and in his left eye, 20/200. Following an examination in 2014, his optometrist stated, “I certify that Bradley Buzzell has sufficient vision to perform driving tasks required to operate a commercial vehicle.” Mr. Buzzell reported that he has driven straight trucks for 30 years, accumulating 540,000 miles. He holds a Class BMC CDL from New Hampshire. His driving record for the last 3 years shows no crashes and no convictions for moving violations in a CMV.

William C. Christy

Mr. Christy, 69, has had acute zonal occult outer retinopathy with central scotoma in his right eye since 2005. The visual acuity in his right eye is 20/200, and in his left eye, 20/20. Following an examination in 2014, his ophthalmologist stated, “It is my opinion based on my exam of Mr. Christy, his visual field testing and his driving history that he is safe to drive a commercial vehicle without restriction.” Mr. Christy reported that he has driven straight trucks for 48 years, accumulating 48,000 miles, and tractor-trailer combinations for 48 years, accumulating 576,000 miles. He holds a Class A CDL from Florida. His driving record for the last 3 years shows no crashes and no convictions for moving violations in a CMV.

Gerard J. Cormier

Mr. Cormier, 51, has had amblyopia in his left eye since childhood. The visual acuity in his right eye is 20/20, and in his left eye, 20/400. Following an examination in 2013, his optometrist stated, “By this standard, he meets Massachusetts's standard for a Class D license and can be certified to drive the commercial vehicle both in and out of Massachusetts without restriction.” Mr. Cormier reported that he has driven straight trucks for 33 years, accumulating 264,000 miles. He holds an operator's license from Massachusetts. His driving record for the last 3 years shows no crashes and no convictions for moving violations in a CMV.

Joe T. Gage

Mr. Gage, 65, has a prosthetic left eye due to a traumatic incident during childhood. The visual acuity in his right eye is 20/20, and in his left eye, no light perception. Following an examination in 2014, his optometrist stated, “In my opinion, Mr. Gage has shown over the years that he has sufficient vision to perform the task required to operate a commercial motor vehicle.” Mr. Gage reported that he has driven straight trucks for 47 years, accumulating 14,100 miles, and tractor-trailer combinations for 47 years, accumulating 3.05 million miles. He holds a Class A CDL from Arkansas. His driving record for the last 3 years shows no crashes and no convictions for moving violations in a CMV.

Hector A. Hernandez

Mr. Hernandez, 42, has had a corneal transplant in his left eye since 2010. The visual acuity in his right eye is 20/20, and in his left eye, 20/80. Following an examination in 2014, his ophthalmologist stated, “He has a mild degree of visual impairment which should not interfere with his ability to safely operate/drive a commercial vehicle.” Mr. Hernandez reported that he has driven straight trucks for 15 years, accumulating 68,250 miles. He holds an operator's license from Maryland. His driving record for the last 3 years shows no crashes and no convictions for moving violations in a CMV.

Rex G. Holladay

Mr. Holladay, 60, has retina damage in his left eye due to a traumatic incident in 1982. The visual acuity in his right eye is 20/20, and in his left eye, 20/400. Following an examination in 2013, his optometrist stated, “I consider Mr. Holladay visually well adapted, and has adequate visual function to operate a commercial vehicle.” Mr. Holladay reported that he has driven straight trucks for 35 years, accumulating 140,000 miles, and tractor-trailer combinations for 16 years, accumulating 1.04 million miles. He holds a Class A CDL from Arkansas. His driving record for the last 3 years shows no crashes and no convictions for moving violations in a CMV.

Chester E. Jaycox

Mr. Jaycox, 58, has had a corneal scar in his right eye since 1989. The visual acuity in his right eye is 20/100, and in his left eye, 20/20. Following an examination in 2014, his optometrist stated, “In my medical opinion I feel that Chester Jaycox is able to perform driving tasks to operate a commercial vehicle.” Mr. Jaycox reported that he has driven straight trucks for 33 years, accumulating 1.16 million miles, and tractor-trailer combinations for 21 years, accumulating 735,000 miles. He holds a Class AM CDL from New York. His driving record for the last 3 years shows 1 crash, for which he was not cited, and no convictions for moving violations in a CMV.

Danny J. Johnson

Mr. Johnson, 51, has had a prosthetic left eye due to a traumatic incident in 1988. The visual acuity in his right eye is 20/20, and in his left eye, no light perception. Following an examination in 2013, his optometrist stated, “In my opinion Dan has sufficient vision to operate a commercial vehicle if it is equipped with adequate mirrors.” Mr. Johnson reported that he has driven straight trucks for 32 years, accumulating 320,000 miles, and tractor-trailer combinations for 32 years, accumulating 160,000 miles. He holds a Class A CDL from Minnesota. His driving record for the last 3 years shows no crashes and no convictions for moving violations in a CMV.

Glenn K. Johnson, Jr.

Mr. Johnson, 65, has had amblyopia, exotropia, strabismus, and cataracts in his left eye since childhood. The visual acuity in his right eye is 20/30, and in his left eye, 20/400. Following an examination in 2014, his optometrist stated, “In my medical opinion, Mr. Johnson has sufficient vision to perform the driving tasks required to operate a commercial vehicle with his current vision.” Mr. Johnson reported that he has driven tractor-trailer combinations for 45 years, accumulating 4.95 million miles. He holds a Class A CDL from North Carolina. His driving record for the last 3 years shows no crashes and no convictions for moving violations in a CMV.

Terry A. Legates

Mr. Legates, 27, has optic nerve disorder in his left eye due to a traumatic incident during childhood. The visual acuity in his right eye is 20/20, and in his left eye, no light perception. Following an examination in 2014, his optometrist stated that, in his medical opinion, Mr. Legates does have sufficient vision to operate a commercial motor vehicle. Mr. Legates reported that he has driven straight trucks for 3.5 years, accumulating 45,500 miles. He holds an operator's license from Oklahoma. His driving record for the last 3 years shows no crashes and no convictions for moving violations in a CMV.

Charles E. Meis

Mr. Meis, 66, has had macular degeneration in his right eye since 2009. The visual acuity in his right eye is 20/250, and in his left eye, 20/20. Following an examination in 2013, his ophthalmologist stated, “In my medical opinion, Charles Meis has sufficient vision to perform the driving tasks required to operate a commercial vehicle . . .” Mr. Meis reported that he has driven straight trucks for 30 years, accumulating 1.8 million miles. He holds an operator's license from Texas. His driving record for the last 3 years shows no crashes and no convictions for moving violations in a CMV.

Ronald B. Mohr

Mr. Mohr, 57, has retinal scarring in his left eye due to a traumatic incident in 1979. The visual acuity in his right eye is 20/20, and in his left eye, 20/200. Following an examination in 2014, his optometrist stated, “It is my medical opinion that Ronald Mohr has sufficient vision to perform the driving tasks required to operate a commercial vehicle.” Mr. Mohr reported that he has driven straight trucks for 40 years, accumulating 20,000 miles, and tractor-trailer combinations for 30 years, accumulating 600,000 miles. He holds a Class A CDL from Iowa. His driving record for the last 3 years shows no crashes and no convictions for moving violations in a CMV.

Hassan Ourahou

Mr. Ourahou, 25, has had amblyopia in his left eye since childhood. The visual acuity in his right eye is 20/20, and in his left eye, 20/200. Following an examination in 2014, his optometrist stated, “The patient has significant vision to perform the driving tasks required to operate a commercial vehicle.” Mr. Ourahou reported that he has driven tractor-trailer combinations for 2 years, accumulating 250,700 miles. He holds a Class A CDL from Kentucky. His driving record for the last 3 years shows no crashes and 2 convictions for moving violations in a CMV; in one instance he exceeded the speed limit by 13 MPH; in another instance, he failed to obey a traffic control device.

Jesus Penuelas

Mr. Penuelas, 39, has had a macular scar in his right eye since birth. The visual acuity in his right eye is hand motion, and in his left eye, 20/20. Following an examination in 2013, his optometrist stated, “Mr. Penuelas has sufficient vision to perform the driving tasks required to operate a commercial vehicle.” Mr. Penuelas reported that he has driven straight trucks for 13 years, accumulating 975,000 miles. He holds an operator's license from Arizona. His driving record for the last 3 years shows no crashes and no convictions for moving violations in a CMV.

Enoc Ramos III

Mr. Ramos, 43, has had a retinal detachment in his right eye since 2001. The visual acuity in his right eye is 20/100, and in his left eye, 20/20. Following an examination in 2013, his optometrist stated, “I don't foresee a major problem with his operating [sic] commercial vehicle from a visual perspective.” Mr. Ramos reported that he has driven tractor-trailer combinations for 13 years, accumulating 910,000 miles. He holds a Class A CDL from Texas. His driving record for the last 3 years shows no crashes and no convictions for moving violations in a CMV.

James T. Rohr

Mr. Rohr, 73, has had hereditary macular dystrophy in his left eye since birth. The visual acuity in his right eye is 20/40, and in his left eye, 20/150. Following an examination in 2013, his optometrist stated, “In my professional opinion Mr. Rohr can safely perform the driving tasks required to operate a private motor vehicle as well as a commercial motor vehicle.” Mr. Rohr reported that he has driven straight trucks for 5 years, accumulating 40,000 miles, and tractor-trailer combinations for 40 years, accumulating 3.8 million miles. He holds a Class A CDL from Minnesota. His driving record for the last 3 years shows no crashes and no convictions for moving violations in a CMV.

DelRay V. Ryckman

Mr. Ryckman, 47, has retinal scarring in his left eye due to a traumatic incident in 1985. The visual acuity in his right eye is 20/20, and in his left eye, hand motion. Following an examination in 2014, his optometrist stated, “In my medical opinion, DelRay does have sufficient vision to perform the driving tasks required to operate a commercial vehicle.” Mr. Ryckman reported that he has driven straight trucks for 27 years, accumulating 540,000 miles. He holds a Class A3 CDL from South Dakota. His driving record for the last 3 years shows no crashes and no convictions for moving violations in a CMV.

Joe Sanchez

Mr. Sanchez, 56, has a prosthetic right eye due to a traumatic incident in 1983. The visual acuity in his right eye is no light perception, and in his left eye, 20/30. Following an examination in 2013, his optometrist stated, “He has sufficient vision vision [sic] to operate a commercial vehicle.” Mr. Sanchez reported that he has driven straight trucks for 19 years, accumulating 728,000 miles, and tractor-trailer combinations for 16 years, accumulating 1.46 million miles. He holds a Class A CDL from Texas. His driving record for the last 3 years shows no crashes and no convictions for moving violations in a CMV.

James S. Seeno

Mr. Seeno, 38, has had a retinal detachment in his right eye since 1996. The visual acuity in his right eye is 20/80, and in his left eye, 20/20. Following an examination in 2014, his optometrist stated, “Mr. Seeno does have sufficient vision to perform the driving tasks required to operate a commercial vehicle.” Mr. Seeno reported that he has driven straight trucks for 9 years, accumulating 90,000 miles, and buses for 7 years, accumulating 350,000 miles. He holds a Class B CDL from Nevada. His driving record for the last 3 years shows no crashes and no convictions for moving violations in a CMV.

George W. Thomas

Mr. Thomas, 40, has had complete loss of vision in his left eye since 2007. The visual acuity in his right eye is 20/15, and in his left eye, no light perception. Following an examination in 2014, his ophthalmologist stated, “I do not have the knowledge of the vision requirements for a commercial drivers' [sic] license but I am of the opinion that he has sufficient vision in his right eye to drive and can receive this licensce [sic] if it is legal for a monocular patient to have a CDL.” Mr. Thomas reported that he has driven straight trucks for 12 years, accumulating 480,000 miles, and tractor-trailer combinations for 3 years, accumulating 150,000 miles. He holds a Class A Commercial Beginner Permit from South Carolina. His driving record for the last 3 years shows no crashes and no convictions for moving violations in a CMV.

Thomas L. Tveit

Mr. Tveit, 61, has had degenerative myopia in his right eye since birth. The visual acuity in his right eye is 20/400, and in his left eye, 20/20. Following an examination in 2014, his optometrist stated, “In my opinion, Mr. Tveit has adequate vision to operate a commercial vehicle.” Mr. Tveit reported that he has driven straight trucks for 47 years, accumulating 70,500 miles, and tractor-trailer combinations for 26 years, accumulating 598,000 miles. He holds a Class A3 CDL from South Dakota. His driving record for the last 3 years shows no crashes and no convictions for moving violations in a CMV.

Bart M. Valiante

Mr. Valiante, 56, has had a central vein occlusion in his left eye since 2002. The visual acuity in his right eye is 20/20, and in his left eye, 20/400. Following an examination in 2013, his ophthalmologist stated, “In my medical opinion, Mr. Valiante has sufficient vision to perform driving tasks to operate a commercial vehicle.” Mr. Valiante reported that he has driven straight trucks for 35 years, accumulating 875,000 miles, and tractor-trailer combinations for 35 years, accumulating 875,000 miles. He holds a Class A CDL from Connecticut. His driving record for the last 3 years shows no crashes and no convictions for moving violations in a CMV.

James W. VanRyswyk

Mr. VanRyswyk, 69, has had amblyopia in his right eye since childhood. The visual acuity in his right eye is 20/125, and in his left eye, 20/20. Following an examination in 2013, his optometrist stated, “It is my opinion that Mr. Van Ryswyk [sic] is visually competent to operate a commercial vehicle.” Mr. VanRyswyk reported that he has driven straight trucks for 52 years, accumulating 2.6 million miles. He holds a Class A CDL from Iowa. His driving record for the last 3 years shows no crashes and no convictions for moving violations in a CMV.

Drake M. Vendsel

Mr. Vendsel, 21, has had amblyopia in his left eye since childhood. The visual acuity in his right eye is 20/15, and in his left eye, 20/60. Following an examination in 2014, his optometrist stated, “Given that [Mr. Vendsel has] been driving a “farm plated” semi truck [sic] incident free since the time [Mr. Vendsel was] working for [his] father on [his father's] farm since [his] early teen years, I would say [Mr. Vendsel has] sufficient vision to perform the driving tasks required to operate a commercial vehicle.” Mr. Vendsel reported that he has driven straight trucks for 7 years, accumulating 42,000 miles, and tractor-trailer combinations for 3 years, accumulating 18,000 miles. He holds an operator's license from North Dakota. His driving record for the last 3 years shows no crashes and no convictions for moving violations in a CMV.

Request for Comments

In accordance with 49 U.S.C. 31136(e) and 31315, FMCSA requests public comment from all interested persons on the exemption petitions described in this notice. The Agency will consider all comments received before the close of business June 13, 2014. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Submitting Comments

You may submit your comments and material online or by fax, mail, or hand delivery, but please use only one of these means. FMCSA recommends that you include your name and a mailing address, an email address, or a phone number in the body of your document so that FMCSA can contact you if there are questions regarding your submission.

To submit your comment online, go to http://www.regulations.gov and in the search box insert the docket number FMCSA-2014-0005 and click the search button. When the new screen appears, click on the blue “Comment Now!” button on the right hand side of the page. On the new page, enter information required including the specific section of this document to which each comment applies, and provide a reason for each suggestion or recommendation. If you submit your comments by mail or hand delivery, submit them in an unbound format, no larger than 8½ by 11 inches, suitable for copying and electronic filing. If you submit comments by mail and would like to know that they reached the facility, please enclose a stamped, self-addressed postcard or envelope.

We will consider all comments and material received during the comment period and may change this proposed rule based on your comments. FMCSA may issue a final rule at any time after the close of the comment period.

Viewing Comments and Documents

To view comments, as well as any documents mentioned in this preamble, To submit your comment online, go to http://www.regulations.gov and in the search box insert the docket number FMCSA-2014-0005 and click “Search.” Next, click “Open Docket Folder” and you will find all documents and comments related to the proposed rulemaking.

Issued on: May 8, 2014.
Larry W. Minor,
Associate Administrator for Policy.

[FR Doc. 2014-11086 Filed 5-13-14; 8:45 am]

BILLING CODE 4910-EX-P